DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Training and Technical Assistance in the Fetal Alcohol Spectrum Disorders (FASD) Center for Excellence—New

Since 2001, the Fetal Alcohol Spectrum Disorders (FASD) Center for Excellence has been operating under contract to SAMHSA's Center for Substance Abuse Prevention. The purpose of the FASD Center for Excellence is to prevent FASD and improve the treatment of FASD. As a cornerstone of the services delivered by the FASD Center for Excellence, targeted training, technical assistance, and consultation is provided in order to significantly improve immediate, intermediate, and long-term outcomes in the prevention and treatment of FASD.

The purpose of this submission is to obtain approval for the use of customer satisfaction feedback forms to be used by FASD Center for Excellence to monitor the delivery and quality of technical assistance, training, and consultation services. Based on estimates derived from a review of the services provided in the first 5 years of operation, the FASD Center for Excellence expects to conduct approximately 240 trainings, 5 informational meetings, and 150 technical assistance events over the course of their contract with SAMHSA. Presentations are available nationwide and can vary in topic and length depending on audience characteristics and presentation setting. Data collection protocols will vary slightly for different types of services and are presented separately for trainings, meetings, and technical assistance services.

Trainings

In keeping with theories of behavior change, changes in knowledge about FASD (for general trainings) and about topic-specific FASD issues (for advanced trainings) will be measured using a pre- and post-test methodology. The pre-test form will also include questions about participants' demographic background and professional affiliation. Participant evaluation forms will be administered immediately following a training event in order to assess customer satisfaction. The post-event evaluation form consists of a brief 2 page questionnaire that asks participants to rate the speaker, identify the most and least helpful features of the presentation, and assess their satisfaction with the services provided. A paper-and-pencil format will be utilized to collect participant responses, although a link to an online survey may be provided at the conclusion of a Webinar or other online presentation. Follow-up will occur both 3 and 6 months after the training either through a brief online survey or a telephone interview. Non-respondents will receive one follow up reminder e-mail.

Informational Meetings

Informational meetings that involve field trainers, who deliver the majority of the Center's FASD trainings, will utilize a pre- and post-test methodology to assess changes in knowledge. In addition, pre-test forms will also gather information about field trainers' cultural background, professional setting, and number of years of experience in the field. Post-test questionnaires will evaluate both knowledge and customer satisfaction immediately following informational meetings. Follow up occurs both at 6 and 12 months after the meeting through either a brief online survey or a telephone interview. Non-respondents will receive one follow up reminder e-mail.

No pre-test forms will be used for informational meetings that do not involve field trainers. Meeting feedback surveys will be administered immediately following informational meetings, and will both assess customer satisfaction and gather background information about participant demographics and professional affiliation. No long-term follow up activity is anticipated for informational meetings that do not involve field trainers.

Technical Assistance

Feedback forms will be used to evaluate customer satisfaction immediately following technical assistance services. Follow-up will occur both at 6 and 12 months after the TA.

All Events

Feedback will also be solicited from the event requestor (the administrative contact in the requesting organization) to assess the administration of all events: trainings, TA, and informational meetings. Rigorous efforts will be made to maintain participant confidentiality across all presentation settings. Participation in data collection is voluntary and no identifying information (name, social security number, etc.) will be collected from any participant. Unique identification codes will be used to match pre-assessment, post-assessment, and follow up evaluation forms in order to track client data over time.

The primary use for information gathered is to identify strengths and weaknesses in current service provisions and to make improvements that are practical and feasible. Several of the customer satisfaction surveys expected to be implemented under this approval will provide data for measurement of program effectiveness under the Government Performance and Results Act (GPRA). Information from these customer surveys will be used to plan and redirect resources and efforts to improve or maintain a high quality of service to service providers, individuals with an FASD and their families, and members of the public.

Estimated Annualized Burden Hours
Instrument/activity | Number of respondents | Number of responses per respondent | Average hours of burden per response | Total burden hours per collection
Trainings:
FASD Event Pre-Test Form | 1,200 | 1 | .083 | 100
FASD Event Post-Test Form | 1,200 | 1 | .067 | 80
FASD Event Feedback Form | 1,200 | 1 | .17 | 204
FASD Training Feedback Survey (3- and 6-month follow-up) | 600 | 2 | .067 | 80
Meetings (Field Trainers):
Pre-Meeting Form (Field Trainers) | 25 | 1 | .12 | 3
Post-Meeting Form (Field Trainers) | 25 | 1 | .17 | 4
FASD Meeting Follow-Up Feedback Survey (6- and 12-month follow-up) | 12 | 2 | .067 | 2
Meetings (Other meetings):
Meeting Feedback Form | 75 | 1 | .083 | 6
Technical Assistance:
Technical Assistance Feedback Form | 375 | 1 | .083 | 31
Technical Assistance Follow-Up Feedback Survey (6- and 12-month follow-up) | 188 | 2 | .067 | 25
All Events (Trainings, Meetings, TA):
Event Requestor Form | 100 | 1 | .067 | 7
Total | 5,000 |  |  | 542

Send comments to Summer King, SAMHSA Reports Clearance Officer, Room 71-1044, One Choke Cherry Road, Rockville, MD 20857. Written comments should be received within 60 days of this notice.

Dated: October 23, 2008.
Elaine Parry,
Acting Director, Office of Program Services.

[FR Doc. E8-25899 Filed 10-29-08; 8:45 am]

BILLING CODE 4162-20-P